DEPARTMENT OF HEALTH AND HUMAN SERVICES

Centers for Disease Control and Prevention

[Program Announcement 03114]

Improve State and Local Health Information and Data Systems; Notice of Availability of Funds

Application Deadline: July 21, 2003.

A. Authority and Catalog of Federal Domestic Assistance Number

This program is authorized under section 301(a) of the Public Health Service Act, 42 U.S.C. 241(a), as amended. The Catalog of Federal Domestic Assistance number is 93.283.

B. Purpose

The Centers for Disease Control and Prevention (CDC) announces the availability of fiscal year (FY) 2003 funds for a cooperative agreement program to improve the capability of state and local health information and data systems to monitor and improve the health of U.S. populations and their communities. This program addresses the “Healthy People 2010” focus area of Public Health Infrastructure.

The purpose of the program is to better enable state and local health departments to regularly and systematically collect, assemble, analyze, and disseminate information on the health of their populations and communities. Further background may be found in the 1988 Institute of Medicine report “The Future of Public Health,” which described the three core functions of public health: assessment, policy development, and assurance. As part of the assessment function, every public health agency should regularly and systematically collect, assemble, analyze, and make available information on the health of the community, including statistics on health status, community health needs, and epidemiologic and other studies of health problems.

Measurable outcomes of the program will be in alignment with one or more of the following performance goals for the Epidemiology Program Office (EPO):

1. Maximize the distribution and use of scientific information and prevention messages through modern communication technology.

2. Encourage state health departments to develop efficient and comprehensive public health information and surveillance systems by promoting the use of the Internet and by focusing on development of standards for communications and data elements.

3. Implement accessible training programs to provide an effective work force for staffing state and local health departments, laboratories, and ministries of health in developing countries.

C. Eligible Applicants

Assistance will be provided only to national non-profit organizations. Eligible national organizations must have affiliate offices and local, state, or regional membership constituencies in a minimum of 10 states and territories. Affiliate offices and local, state, or regional membership constituencies may not apply in lieu of, or on behalf of, their national office. No other applications are solicited. Limiting assistance to national organizations is necessary to produce the maximum possible enhancement, given available resources, of the assessment capacities of state and local health departments throughout the nation.

Note: Title 2 of the United States Code section 1611 states that an organization described in section 501(C)(4) of the Internal Revenue Code that engages in lobbying activities is not eligible to receive Federal funds constituting an award, grant or loan.

D. Funding

Availability of Funds

Approximately $200,000 is available in FY 2003 to fund approximately two awards. It is expected that the average award will be $100,000, ranging from $50,000 to $150,000. It is expected that the awards will begin on or about September 15, 2003, and will be made for a 12-month budget period within a project period of up to three years. Funding estimates may change.

Continuation awards within an approved project period will be made on the basis of satisfactory progress as evidenced by required reports and the availability of funds.

Recipient Financial Participation

No matching funds are required for this program.

Funding Preferences

Funding preference may be given to organizations whose primary mission is to support state and local health agencies.

E. Program Requirements

In conducting activities to achieve the purpose of this program, the recipient will be responsible for the activities listed in 1. Recipient Activities, and CDC will be responsible for the activities listed in 2. CDC Activities.

1. Recipient Activities

a. Establish and maintain activities which support health information and data systems for state and local health departments.

b. Implement projects and activities with specific, measurable, and feasible goals, objectives, and timelines. Evaluate the effectiveness of the activities related to this program including possible indicators of success.

c. Participate in the annual CDC Assessment Initiative Conference each budget year of the project period for the purpose of sharing best practices learned from the planned activities.

d. Disseminate project-related information and findings through a variety of methods.

e. Implement an operational plan for one or more of the following activities:

(1) Data and Statistical Standards: Develop guidelines to facilitate the implementation of data and statistical specifications and standards in health information systems by state and local health agencies. These specifications and standards should take advantage of existing national and international data and information standards (e.g., products of the Public Health Data Standards Consortium), and work already done in the public and private sectors.

(2) Technical Assistance: Develop a plan to address the technical needs of state and local health departments in such areas as methods of linking or matching data; methods of managing and storing data; methods of analyzing data; methods of querying or otherwise accessing data; methods of displaying and disseminating information; and methods of ensuring the integrity and security of data, the confidentiality of data about individual persons, and compliance with the privacy and security standards of the Health Insurance Portability and Accountability Act. Identify the most common requests for information that state and local health agencies receive, assess information and service needs, and provide direct technical assistance to requesting agencies.

(3) National Health Information Systems Training: In conjunction with various partners develop a national plan to address the changing training needs of state and local health departments in the area of health information systems; develop new training, as appropriate, to address emerging topics (e.g., the “Guide for Public Health Agencies Developing, Adopting, or Purchasing Interactive Web-based Data Dissemination Systems”); and identify other training opportunities for state and local health agency staff.

2. CDC Activities

a. Coordinate with national, state, and local health information and data agencies, as well as other relevant organizations, in developing programs which will enable state and local health departments to regularly and systematically collect, assemble, analyze, and disseminate information on the health of their populations and communities.

b. Provide guidance related to program planning, implementation, and evaluation; assessment of program objectives; use of indicators; and dissemination of successful strategies, experiences, and evaluation reports.

c. Plan and conduct the annual CDC Assessment Initiative Conference to address issues and program activities related to this cooperative agreement.

d. Assist in the evaluation of program activities.

F. Content

Applications

The Program Announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced 12-point font.

The narrative should consist of:

1. Executive Summary

Provide a concise, two-page summary that clearly states the health information and data systems needs being addressed and describes the organization's eligibility, including (a) its status as a national organization; (b) the number and membership of affiliate offices; and (c) the experience and capacity of the organization to work with state and local health departments. The summary should also include the major proposed goals, objectives, and activities for the project, and describe how anticipated project outcomes will interface with other relevant public health systems.

2. Background and Need

a. Describe the organization's background and experience in assessing and addressing the needs related to health information and data systems.

b. Describe the need for the specific activities proposed in the project plan.

c. Describe the criteria that were used to select the project and the alternative approaches that were considered.

3. Operational Plan

a. Goals: List goals that specifically relate to program requirements that indicate where the program will be at the end of the projected three-year project period.

b. Objectives: List objectives that are specific, measurable, and feasible to be accomplished during the first 12-month budget period. The objectives should relate directly to the project goals and recipient activities.

c. Activities: Describe in narrative form, and display on a timetable, specific activities that are related to each first-year objective. Indicate when each activity will occur as well as when preparations for activities will occur. Indicate who will be responsible for each activity. The program plan should briefly address activities to be conducted over the entire three-year project period.

d. Milestones: List major milestones that will be accomplished during years two and three.

e. Dissemination: Describe how project materials and accomplishments will be shared with others. Identify appropriate audiences for this information.

4. Evaluation

Describe a plan to evaluate the project's effectiveness in meeting its goals and objectives. Describe the type of evaluation that will be used (process, outcome, or both). Specify the evaluation question(s) to be answered, evaluation measures (quantitative measures of effectiveness that are used to measure the intended outcome of a goal or objective) to be obtained, the type(s) of analyses to be performed, to whom they will be reported, and how the evaluation will be used to improve the program. The plan should indicate major steps in the evaluation and who will be responsible for each step.

5. Ability to Carry Out the Proposed Project

a. Describe the organization's constituents and affiliates as follows: type of constituency; number of constituents and affiliates; location of constituents and affiliates; how the constituency can influence and work with health information and data systems.

b. Describe the organization's current and previous experience related to the proposed program activities; current and previous coordination with other national organizations and partners; and activities related to building alliances, networks, or coalitions.

c. Describe the organization's structure and how it supports health information and data systems. Submit a copy of the applicant's organizational chart.

d. Identify the proposed project staff and describe their qualifications and experience in areas relevant to the project's focus. Submit a curriculum vitae (limited to two pages) for each professional staff member named in the proposal, and job descriptions for existing and proposed positions.

e. Describe the purposes of proposed collaborations and the agencies and organizations with which collaboration will be conducted. If other organizations will participate in proposed activities, provide the name(s) of the organization(s), and state who in each organization will coordinate the activity. For each organization listed, provide a letter from them that acknowledges their specific role and describes their capacity to fulfill it. Do not include letters of support from organizations that will not have specific roles in the project.

6. Budget and Accompanying Justification

Provide a detailed budget narrative and line-item justification of all operating expenses. The budget should be consistent with the stated objectives and planned activities of the project. Budget requests should include funding for two staff members to make one two-day trip for a planning meeting and one three-day trip for the annual CDC Assessment Initiative Conference. (Base cost estimates on travel to Atlanta, Georgia.)

7. Appendix

Attach an appendix containing organizational chart(s), curricula vitae, job descriptions, and letters of support from proposed collaborating organizations.

G. Submission and Deadline

Application Forms

Submit the signed original and two copies of PHS 5161-1 (OMB Number 0920-0428). Forms are available at the following Internet address: www.cdc.gov/od/pgo/forminfo.htm. If you do not have access to the Internet, or if you have difficulty accessing the forms on-line, you may contact the CDC Procurement and Grants Office Technical Information Management Section (PGO-TIM) at: 770-488-2700. Application forms can be mailed to you.

Submission Date, Time, and Address

The application must be received by 4:00 p.m. Eastern Time July 21, 2003. Submit the application to: Technical Information Management—PA#03114, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

Note: For the purposes of this cooperative agreement, “measures of effectiveness” are defined as the “evaluation measures” discussed with the Evaluation Plan criteria.

An independent review group appointed by CDC will evaluate each application against the following criteria:

1. Operational Plan (40 Points)

a. The extent to which the applicant describes three-year project goals that specifically relate to program requirements.

b. The extent to which the first-year objectives are specific, measurable, feasible, and relate directly to the project goals and recipient activities.

c. The extent to which the applicant describes specific activities that are related to each first-year objective, with timelines and responsible persons for each activity.

d. The extent to which the applicant describes reasonable milestones to be accomplished during years two and three.

e. The extent to which the applicant describes how project materials and accomplishments will be shared with others.

2. Ability to Carry Out the Proposed Plan (30 Points)

a. The extent to which the applicant describes the organization's ability to access and influence state and local health agencies through a network of affiliates, constituents, or members.

b. The extent to which the applicant describes current and previous experience administering or coordinating health-related, public health, or community-based data or information programs in conjunction with other national organizations and partners.

c. The extent to which the applicant's organizational structure; the qualifications, experience, and responsibilities of proposed staff; and available physical facilities and information technology resources demonstrate the ability to successfully carry out the project.

d. The extent to which the applicant describes proposed collaborative activities and provides evidence of the support, commitment, and capacity of proposed collaborating organizations.

3. Background and Need (15 Points)

a. The extent to which the applicant demonstrates an understanding of the needs of state and local health agencies with respect to population-based health information and data systems, and provides evidence of previous experience in addressing these needs.

b. The extent to which the applicant demonstrates the need for the specific activities proposed in the project plan. c. The extent to which the applicant describes sound criteria for selecting the proposed project over possible alternatives.

4. Evaluation Plan (15 Points)

The extent to which the applicant presents an evaluation plan, with reasonable evaluation measures (i.e., required “measures of effectiveness”), to measure the achievement of program objectives and monitor the implementation of proposed activities.

5. Budget Justification (not scored)

The extent to which the proposed budget is reasonable, clearly justified, and consistent with the intended use of cooperative agreement funds.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC web site.

AR-7 Executive Order 12372 Review

AR-10 Smoke-Free Workplace Requirements

AR-11 Healthy People 2010

AR-12 Lobbying Restrictions

AR-15 Proof of Non-Profit Status

J. Where To Obtain Additional Information

This and other CDC announcements, the necessary applications, and associated forms can be found on the CDC Web site, Internet address: http://www.cdc.gov

Click on “Funding” then “Grants and Cooperative Agreements”.

For general questions about this announcement, contact: Technical Information Management, CDC Procurement and Grants Office, 2920 Brandywine Road, Atlanta, GA 30341-4146, Telephone: 770-488-2700.

For business management and budget assistance, contact: Mattie B. Jackson, Grants Management Specialist, Procurement and Grants Office, Centers for Disease Control and Prevention, 2920 Brandywine Road, Atlanta, GA 30341-4146, Telephone: 770-488-2696, E-mail address: MJackson2@cdc.gov.

For program technical assistance, contact: Timothy A. Green, Ph.D., Chief, Applied Sciences Branch, Division of Public Health Surveillance and Informatics, Epidemiology Program Office, Centers for Disease Control and Prevention, 4770 Buford Highway, MS K-74, Atlanta, GA 30341-3717, Telephone: 770-488-8378, E-mail address: TGreen@cdc.gov.

Dated: May 30, 2003.
Edward Schultz,
Acting Director, Procurement and Grants Office, Centers for Disease Control and Prevention.

[FR Doc. 03-14126 Filed 6-4-03; 8:45 am]

BILLING CODE 4163-18-P